Title 3—

The President

Proclamation 10979 of October 9, 2025

Leif Erikson Day, 2025

By the President of the United States of America

A Proclamation

More than a millennium ago, legendary Norse Viking Leif Erikson forever changed the course of history when he fearlessly embarked on a daring expedition into the unknown, becoming the first European to ever set foot in the New World. This Leif Erikson Day, we summon his courage, we honor his enduring legacy of adventure and exploration, and we renew our resolve to advance the limits of human achievement.

According to tradition, Leif Erikson's zeal for adventure began as a young man in Greenland, where he heard stories of distant lands across the sea. Determined to chart those waters himself, and guided by his deep Christian faith, he assembled a brave crew and set sail, voyaging more than 1,800 miles across the Atlantic Ocean through brutal winds and storms. With courage in his veins and faith in his God, Erikson realized his purpose when he reached the shores of a land he called “Vinland,” known today as L'Anse aux Meadows at the northern tip of Newfoundland, Canada.

With this incredible discovery, Leif Erikson became the first European to land in North America and cemented his place as one of the great explorers in world history. He returned home a hero, bringing with him the exciting news of uncivilized lands. His achievement inspired countless explorers to venture into North America, and ultimately paved the way for the first American settlement in Jamestown, Virginia, more than 600 years later.

Leif Erikson's triumphant spirit of exploration has continued to define the American story—from the pioneers who tamed the Western frontier to the Apollo 11 astronauts who proudly planted the Stars and Stripes on the Moon. His legacy lives on through the millions of Americans who proudly share in his Nordic ancestry. These patriots have embodied the same character of courage and resolve, and have immensely enriched our history, our culture, and our communities. My Administration continues to strengthen our bonds with the proud Nordic nations from which Erikson came. Together, with our allies in Norway, Sweden, Denmark, Iceland, and Finland, we are advancing fair trade and promoting peace through strength—ensuring a safer and more prosperous future for America and the North Atlantic.

As we celebrate the heroic life of the great Leif Erikson, we embrace his legacy, recognize the contributions of the millions of Nordic Americans, and recommit to advancing the timeless drive of discovery that has always stood at the heart of America's destiny.

To honor Leif Erikson, son of Iceland and grandson of Norway, and to celebrate our Nordic-American heritage, the Congress, by joint resolution (Public Law 88-566) approved on September 2, 1964, has authorized the President of the United States to proclaim October 9 of each year as “Leif Erikson Day.”

NOW, THEREFORE, I, DONALD J. TRUMP, President of the United States of America, by virtue of the authority vested in me by the Constitution and the laws of the United States, do hereby proclaim October 9, 2025, as Leif Erikson Day. I call upon all Americans to celebrate the achievements and contributions of Nordic Americans to our Nation with appropriate ceremonies, activities, and programs.

IN WITNESS WHEREOF, I have hereunto set my hand this ninth day of October, in the year of our Lord two thousand twenty-five, and of the Independence of the United States of America the two hundred and fiftieth.

[FR Doc. 2025-19561

Filed 10-10-25; 2:00 pm]

Billing code 3395-F4-P